DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Evaluation of the CMHS/CSAT Collaborative Program On Homeless Families: Women With Psychiatric, Substance Use, Or Co-Occurring Disorders and Their Dependent Children, Phase II—New—SAMHSA's Center for Mental Health Services (CMHS) and Center for Substance Abuse Treatment (CSAT), through a set of cooperative agreements, proposes to conduct a longitudinal, multi-site evaluation study assessing mental health, substance abuse, and trauma interventions received by homeless mothers with psychiatric, substance use, or co-occurring disorders and their dependent children. The study will advance knowledge on appropriate and effective approaches to improving families residential stability, overall functioning, and ultimate self-sufficiency.

Data collection will be conducted over a 33-month period. A total of 2,000 participants will be recruited from eight to ten sites. At each site, a documented treatment intervention will be tested in comparison to an alternative treatment condition. Participants will be interviewed at baseline (within two weeks of entering a program) as well as three additional times (3 months after program entry, 9 months after program entry, and 15 months after program entry). Trained interviewers will administer the interviews to participating mothers. Information on the children will be obtained from the mother.

Key outcomes for the mothers are increased residential stability, decreased substance use, decreased psychological distress, improved mental health functioning, increased trauma recovery, improved health, improved functioning as a parent, and decreased personal violence. Outcomes for the children are reduced emotional/behavioral problems and improved school attendance.

To reduce burden and increase uniformity across the study sites, a central Coordinating Center will develop and administer common data entry and tracking computer programs. A variety of quality control procedures will also be implemented to ensure the integrity and uniformity of the data collected. Data will be submitted to the Coordinating Center via electronic means. Training and technical assistance will be provided to all sites on data submission. Sites will be asked to follow uniform procedures for submitting their data.

The estimated response burden is as follows:

Interview | Number of respondents | Responses per respondent | Burden per response (hrs.) | Total burden horus
Baseline | 2,000 | 1 | 1.58 | 3,160
Follow-Up 1 (3 months) | 2,000 | 1 | 1.25 | 2,500
Follow-Up 2 (9 months) | 2,000 | 1 | 1.25 | 2,500
Follow-Up 3 (15 months) | 2,000 | 1 | 1.25 | 2,500
Total | 2,000 |  |  | 10,660
3-yr annual average | 2,000 |  |  | 3,553

Send comments to Nancy Pearce, SAMHSA Reports Clearance Officer, Room 16-105, Parklawn Building, 5600 Fishers Lane, Rockville, MD 20857. Written comments should be received within 60 days of this notice.

Dated: January 10, 2001.
Richard Kopanda,
Executive Officer, SAMHSA.

[FR Doc. 01-1298 Filed 1-16-01; 8:45 am]

BILLING CODE 4162-20-P